DEPARTMENT OF COMMERCE

Foreign-Trade Zones Board

[Docket 58-2003]

Foreign-Trade Zone 134—Chattanooga, TN, Request for Manufacturing Authority; Sofix Corporation (Black Colorformer Chemicals)

An application has been submitted to the Foreign-Trade Zones Board (the Board) by the Chattanooga Chamber Foundation, grantee of FTZ 134, on behalf of Sofix Corporation (Sofix), requesting authority to manufacture black colorformer chemicals under FTZ procedures within FTZ 134—Site 2. The application was formally filed on November 4, 2003.

The Sofix facility (42,000 sq. ft. of production area and 17,500 sq. ft. of warehouse space) is located at 2800 Riverport Road, Chatanooga, Tennessee, within Site 2 of FTZ 134. The plant (32 employees) produces black colorformer chemicals, known generically as Spiro Phathalide Xanthene (HTSUS 2932.29.30, 7.2%). Foreign-sourced materials include ACME (HTSUS 2922.29.60, 7.2%) and benzoic acid (HTSUS 2922.50.35, 7.2%) and will account for some 50-60 percent of finished product value.

Zone procedures would exempt Sofix from Customs duty payments on foreign materials used in production for export. Some 60 percent of the plant's shipments are currently exported. On domestic shipments, the company would be able to defer duty on foreign-sourced inputs until formal Customs entry is made. Zone procedures would also exempt Sofix from Customs duty payments on foreign materials used in certain production resulting in scrap or waste (some 5 percent by weight). The application also indicates that Sofix may realize logistical/procedural benefits from subzone status. The application indicates that the savings from zone procedures will help improve the plant's international competitiveness.

In accordance with the Board's regulations, a member of the FTZ Staff has been designated examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St. NW., Washington, DC 20005; or

2. Submissions Via the U.S. Postal Service: Foreign-Trade-Zones Board, U.S. Department of Commerce, FCB—Suite 4100W, 1401 Constitution Ave. NW., Washington, DC 20230.

The closing period for their receipt is January 16, 2004. Rebuttal comments in response to material submitted during the foregoing period may be submitted during the subsequent 15-day period (to February 2, 2004).

A copy of the application and accompanying exhibits will be available for public inspection at the Office of the Foreign-Trade Zones Board's Executive Secretary at address Number 1 listed above, and at the U.S. Customs and Border Protection Office, Port of Chattanooga, 5959 Shallowford Road, Suite 429-0, Chattanooga, TN 37421.

Dated: November 4, 2003.
Dennis Puccinelli,
Executive Secretary.

[FR Doc. 03-28671 Filed 11-14-03; 8:45 am]

BILLING CODE 3510-DS-P